DEPARTMENT OF COMMERCE

International Trade Administration

[Docket No. 150416372-5372-01]

DEPARTMENT OF STATE

DEPARTMENT OF TRANSPORTATION

Information on Claims Raised About State-Owned Airlines in Qatar and the UAE

AGENCY: International Trade Administration, U.S. Department of Commerce; Transportation Affairs, Bureau for Economic and Business Affairs, U.S. Department of State; Office of Aviation and International Affairs, U.S. Department of Transportation.

ACTION: Notice and request for comments.

SUMMARY: This notice announces that the Departments of Commerce, State, and Transportation are interested in obtaining from interested stakeholders information regarding their views on claims that three foreign airlines—Emirates Airline, Etihad Airways, and Qatar Airways—have received and are benefitting from subsidies from their homeland governments that are distorting the global aviation market.

DATES: The comment period for this notice is now open and will remain open for the foreseeable future. As explained below, however, anyone interested in providing input to the Departments before they determine what actions should be taken, if any, should submit information as soon as practicable.

ADDRESSES: You may submit comments on this document via the Federal e-Rulemaking Portal at http://www.regulations.gov. You may submit comments in any (or all) of the three docket numbers open for comment:

• DOT-OST-2015-0082

• DOS-2015-0016

• DOC-2015-0001

FOR FURTHER INFORMATION CONTACT: Eugene Alford, Office of Supply Chain, Professional & Business Services, International Trade Administration, U.S. Department of Commerce (Phone: (202) 482-5071 or Email: Airservices@trade.gov). Robert Newsome, Transportation Affairs, Bureau for Economic and Business Affairs, U.S. Department of State (Phone: (202) 647-7540 or Email: newsomerc@state.gov). Reese Davidson, Office of International Aviation, Office of Aviation and International Affairs, U.S. Department of Transportation (Phone: (202) 366-8161 or Email: Reese.Davidson@dot.gov). Claire McKenna, Office of Operations, Office of the General Counsel, U.S. Department of Transportation (Phone: (202) 366-0365 or Email: Claire.McKenna@dot.gov).

SUPPLEMENTARY INFORMATION: Background: The U.S. Departments of Commerce, State, and Transportation are reviewing claims that three foreign airlines—Emirates Airline, Etihad Airways, and Qatar Airways—have received and are benefitting from subsidies from their respective governments of the United Arab Emirates (UAE) and Qatar that are distorting the global aviation market. The claims, which are asserted in a publicly available report, are of significant interest to stakeholders and all three Federal agencies. The U.S. government takes seriously the concerns raised in the report and is interested in receiving insights and feedback from stakeholders before any decisions are made regarding what action, if any, should be taken. Accordingly, consistent with the Obama Administration's Open Government Initiative and commitment to transparency, public participation, and collaboration, the three Departments are announcing the establishment of an open forum by which any interested stakeholder may submit information regarding their views on this subject and have access to such information submitted by other interested stakeholders.

Any interested person or group may submit information, responses to existing materials, or any other analysis that they might wish to provide the U.S. government on this subject on the www.regulations.gov Web site. Each Department will have a corresponding number—listed below—on www.regulations.gov, and all submissions will be reviewed jointly by the interagency team.

No provision has been made for submission of confidential material to these dockets. The materials in the docket will not be edited to remove identifying or contact information. The Departments caution against including any information in an electronic submission that one does not want publicly disclosed.

All correspondence on this subject received by the Departments after the issuance of this notice will be considered part of this submission process and will be posted in www.regulations.gov for the benefit of the public, unless the submitter has requested and been granted confidential treatment of commercial information by the Departments. To the extent allowed by law, the Departments will protect trade secrets and confidential commercial or financial information from disclosure, and will follow their established procedures under the Freedom of Information Act, Executive Order 12600, and the relevant Department regulations for handling requests that seek disclosure of confidential business information.

Any stakeholder that has previously submitted letters on this matter to the Departments can also submit such previous correspondence to the www.regulations.gov Web site. All material posted will be deemed to be public and freely accessible by any interested person.

The three Departments encourage submissions to be made as soon as practicable, as review of any new material submitted to the joint docket is expected to begin by the end of May, to supplement the U.S. government's ongoing review and evaluation of this matter.

To submit a comment, please visit www.regulations.gov and enter one of the below docket numbers in the search field:

• DOT-OST-2015-0082

• DOS-2015-0016

• DOC-2015-0001

Dated: April 27, 2015.
Ted Dean,
Deputy Assistant Secretary for Services, Department of Commerce.
Dated: April 27, 2015.
Thomas Engle,
Deputy Assistant Secretary for Transportation Affairs, Department of State.
Dated: April 29, 2015.
Brandon M. Belford,
Deputy Assistant Secretary for Aviation and International Affairs, Department of Transportation.

[FR Doc. 2015-10425 Filed 5-4-15; 8:45 am]

BILLING CODE 3510-DR-P